DEPARTMENT OF DEFENSE

Department of the Air Force

[Docket ID USAF-2014-0027]

Privacy Act of 1974; System of Records

AGENCY: Department of the Air Force, DoD.

ACTION: Notice to delete a System of Records.

SUMMARY: The Department of the Air Force is deleting a system of records notice in its existing inventory of record systems subject to the Privacy Act of 1974, as amended. The system notice is entitled “F036 AETC V, Potential Faculty Rating System”.

DATES: Comments will be accepted on or before October 22, 2014. This proposed action will be effective the day following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Mr. Charles J. Shedrick, Department of the Air, Air Force Privacy Act Office, Office of Warfighting Integration and Chief Information Officer, ATTN: SAF/CIO A6, 1800 Air Force Pentagon, Washington, DC 20330-1800, or by phone at (571) 256-2515.

SUPPLEMENTARY INFORMATION: The Department of the Air Force systems of records notices subject to the Privacy Act of 1974, as amended, has been published in the Federal Register and are available from the address in FOR FURTHER INFORMATION CONTACT. The Department of the Air Force proposes to delete a system of records notice from its inventory of record systems subject to the Privacy Act of 1974 as amended. The proposed deletion is not within the purview of subsection (r) of the Privacy Act of 1974, as amended, which requires the submission of a new or altered system report.

Dated: September 17, 2014.
Aaron Siegel,
Alternate OSD Federal Register Liaison Officer, Department of Defense.

Deletion:

F036 AETC V

System name:

Potential Faculty Rating System (March 27, 2003, 68 FR 14951)

Reason:

Redundant with F036 AF AETC A, Student Records (August 13, 2004, 69 FR 50173). This information is maintained in the Student Records database. There is no separate system for potential faculty; all records are maintained in the Student Records Database.

[FR Doc. 2014-22497 Filed 9-19-14; 8:45 am]

BILLING CODE 5001-06-P